DEPARTMENT OF ENERGY

Federal Energy Regulatory Commission

[Docket No. RP04-119-003]

Dominion Transmission, Inc.; Notice of Annual Report on Operational Sales of Gas

August 4, 2004.

Take notice that on June 30, 2004, Dominion Transmission, Inc. (Dominion) tendered for filing an annual report on operational sales of gas for the 12 month period from April 1, 2003 to March 31, 2004.

Dominion states that the annual report is in compliance with section 42.D of the General Terms and Conditions (GT&C) of its tariff, which requires Dominion on June 30 of each year to submit its annual report on the sale of gas that is incidental to its operations covering the 12 month period from April 1 to March 31. Dominion alleges that section 42.D of the GT&C also requires that the annual report indicate the source of all gas sold, the date of sale, the volumes, sales price, revenues from the sale, and the disposition of the revenues. Dominion reports that it sold 3,000,000 dt of gas, with total dollars billed of $18,857,537.09.

Dominion states that copies of its filing have been served on all affected customers of Dominion and interested State commissions, as well as to all parties appearing on the Commission's official service list in this docket.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on August 11, 2004.

Magalie R. Salas,
Secretary.

[FR Doc. E4-1774 Filed 8-10-04; 8:45 am]

BILLING CODE 6717-01-P